DEPARTMENT OF COMMERCE

International Trade Administration

[A-583-827]

Static Random Access Memory Semiconductors From Taiwan: Initiation of Antidumping Duty New Shipper Review

AGENCY: Import Administration, International Trade Administration, Department of Commerce.

SUMMARY: The Department of Commerce has received a request to conduct a new shipper review of the antidumping duty order on static random access memory semiconductors from Taiwan. In accordance with section 751(a)(2)(B) of the Tariff Act of 1930, as amended, and 19 CFR 351.214(d), we are initiating a review for Elite Semiconductor Memory Technology Inc./Elite Memory Technology, Inc. (collectively “ESMT”).

EFFECTIVE DATE: June 6, 2001.

FOR FURTHER INFORMATION CONTACT: Irina Itkin, Import Administration, International Trade Administration, U.S. Department of Commerce, 14th and Constitution Avenue, NW., Washington, DC 20230; telephone (202) 482-0656.

Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to the provisions codified at 19 CFR part 351 (2000).

SUPPLEMENTARY INFORMATION:

Background

On April 30, 2001, the Department received a timely request from ESMT, in accordance with 19 CFR 351.214(d), for a new shipper review of the antidumping duty order on static random access memory semiconductors (SRAMs) from Taiwan. This order has an April anniversary date. See Notice of Final Determination of Sales at Less Than Fair Value: Static Random Access Memory Semiconductors from Taiwan, 63 FR 8090 (Feb. 23, 1998). Therefore, the request is timely pursuant to 19 CFR 351.214(c). In accordance with 19 CFR 351.214(b)(2)(i) and (iii)(A), ESMT has certified (1) that it did not export SRAMs to the United States during the period of investigation (POI), and (2) that since the investigation was initiated, it never has been affiliated with any exporter or producer who exported SRAMs to the United States during the POI, including those not individually examined during the investigation. Also, in accordance with 19 CFR 351.214(b)(2)(iv), ESMT submitted documentation establishing (1) the date on which it first shipped the subject merchandise to the United States, (2) the volume of that shipment and subsequent shipments, and (3) the date of the first sale to an unaffiliated customer in the United States.

Therefore, in accordance with section 751(a)(2)(B) of the Act and 19 CFR 351.214(b), and based on information on the record, we are initiating the new shipper review as requested.

Initiation of Review

In accordance with section 751(a)(2)(B)(ii) of the Act and 19 CFR 351.214(d)(1), we are initiating a new shipper review of the antidumping duty order on SRAMs from Taiwan. On May 24, 2001, ESMT agreed to waive the time limits of 19 CFR 351.214(i), in order that the Department, pursuant to 19 CFR 351.214(j)(3), may conduct this review concurrent with the administrative review of this order for the period April 1, 2000, through March 31, 2001, as requested pursuant to section 751(a) of the Act. Therefore, we intend to issue the preliminary results of this review not later than 245 days after the last day of the anniversary month. In accordance with our practice, all other provisions of 19 CFR 351.214 will apply to ESMT throughout the duration of this new shipper review.

Antidumping duty proceeding | Period to be reviewed
Taiwan: Static Random Access Memory Semiconductors, A-583-827, Elite Semiconductor Memory Technology Inc./Elite Memory Technology, Inc | 04/01/00-03/31/01

Concurrent with publication of this notice, and in accordance with 19 CFR 351.214(e), we will instruct the U.S. Customs Service to suspend liquidation of any unliquidated entries of the subject merchandise for the relevant exporter/producer and to allow, at the option of the importer, the posting, until the completion of the review, of a bond or security in lieu of a cash deposit for each entry of the merchandise exported by the above-listed company.

Interested parties that need access to the proprietary information in this new shipper review should submit applications for disclosure under administrative protective orders in accordance with 19 CFR 351.305 and 19 CFR 351.306.

This initiation and this notice are in accordance with section 751(a) of the Act and 19 CFR 351.214(d).

Dated: May 31, 2001.
Richard W. Moreland,
Deputy Assistant Secretary, Office of AD/CVD Enforcement Group I.

[FR Doc. 01-14134 Filed 6-5-01; 8:45 am]

BILLING CODE 3510-DS-P